JUDICIAL CONFERENCE OF THE UNITED STATES

Meeting of the Judicial Conference Advisory; Committee on Rules of Criminal Procedure

AGENCY: Advisory Committee on Rules of Criminal Procedure, Judicial Conference of the United States.

ACTION: Notice of open meeting.

SUMMARY: The Advisory Committee on Rules of Criminal Procedure will hold a meeting on September 19, 2016, which will continue the morning of September 20, 2016, if necessary. The meeting will be open to public observation but not participation.

DATES: September 19-20, 2016.

TIME: 9:00 a.m.-5:00 p.m.

ADDRESSES: Castles Arena, Alexander Blewett III School of Law, University of Montana, 32 Campus Drive, Missoula, Montana 59812

FOR FURTHER INFORMATION CONTACT: Rebecca A. Womeldorf, Rules Committee Secretary, Rules Committee Support Office, Administrative Office of the United States Courts, Washington, DC 20544, telephone (202) 502-1820.

Dated: August 3, 2016.
Rebecca A. Womeldorf,
Rules Committee Secretary.

[FR Doc. 2016-18762 Filed 8-5-16; 8:45 am]

BILLING CODE 2210-55-P